POSTAL SERVICE

39 CFR Part 111

Elimination of Business Reply Mail (BRM) Parcels; Deferral of Enforcement Date

AGENCY: Postal Service™.

ACTION: Final rule; partial deferral of the enforcement date.

SUMMARY: The Postal Service gives notice that it is deferring the previously-announced enforcement date of January 25, 2015, for eliminating mailers' option to use Business Reply Mail® to pay postage for parcel-shaped items.

DATES: The enforcement date for the relevant portions of the final rule published December 18, 2013 (78 FR 76548), is delayed indefinitely.

FOR FURTHER INFORMATION CONTACT: Suzanne Newman, 603-673-2002.

SUPPLEMENTARY INFORMATION: The Postal Service hereby gives notice that the enforcement date of January 25, 2015, for eliminating mailers' option to use Business Reply Mail (BRM) to pay postage for parcel-shaped items, previously published on December 18, 2013, in a final rule in the Federal Register (78 FR 76548-76560), is hereby deferred until further notice. In particular, this deferral applies to the requirements specified in the amendment to Mailing Standards of the United States Postal Service, Domestic Mail Manual (DMM®) 505.1.4.1 (Business Reply Mail—General Information—Description) published at 78 FR 76560. The decision to defer the enforcement date of this change was based on the review of subsequent mailer feedback. All other requirements that were published in the Federal Register (78 FR 76548-76560) will be implemented as specified.

Despite the decision to defer the above referenced enforcement date, the Postal Service continues to believe that mailers who currently distribute BRM cartons and labels for the return of parcel-shaped items would be better served by switching to Merchandise Return Service® In light of mailers' continuing eligibility to use BRM for the payment of postage for parcel-shaped items, and the Postal Service's goal of promoting enhanced package visibility, the Postal Service expects to propose rules mandating the use of an Intelligent Mail® package barcode on certain BRM cartons and labels.

Stanley F. Mires,
Attorney, Legal Policy & Legislative Advice.

[FR Doc. 2014-13042 Filed 6-4-14; 8:45 am]

BILLING CODE 7710-12-P